DEPARTMENT OF COMMERCE

International Trade Administration

[A-570-898]

Chlorinated Isocyanurates From the People's Republic of China: Final Determination of No Shipments; 2019-2020 Administrative Review

AGENCY: Enforcement and Compliance, International Trade Administration, Department of Commerce.

SUMMARY: The Department of Commerce (Commerce) finds that Heze Huayi Chemical Co., Ltd. (Heze Huayi) and Juancheng Kangtai Chemical Co., Ltd. (Kangtai) did not have any shipments of subject merchandise during the period of review (POR) June 1, 2019, through May 31, 2020.

DATES: Applicable July 9, 2021.

FOR FURTHER INFORMATION CONTACT: Sean Carey, AD/CVD Operations, Office VII, Enforcement and Compliance, International Trade Administration, U.S. Department of Commerce, 1401 Constitution Avenue NW, Washington, DC 20230; telephone: (202) 482-3964.

SUPPLEMENTARY INFORMATION:

Background

On March 8, 2021, Commerce published its Preliminary Results of the administrative review of the antidumping duty order on chlorinated isocyanurates (chlorinated isos) from China covering the period June 1, 2019, through May 31, 2020.¹ The petitioners in this investigation are Bio-lab, Inc., Clearon Corp., and Occidental Chemical Corp. (collectively, the petitioners). The mandatory respondents in this administrative review are Heze Huayi and Kangtai. No case or rebuttal briefs for this review were submitted by the parties.

¹ See Chlorinated Isocyanurates from the People's Republic of China: Preliminary Determination of No Shipments; 2019-2020, 86 FR 13291 (March 8, 2021) (Preliminary Results), and accompanying Preliminary Decision Memorandum (PDM).

On September 8, 2020, Heze Huayi and Kangtai both certified that their respective companies had no entries of subject merchandise during the POR.² On November 17, 2020, our review of U.S. Customs and Border Protection (CBP) data indicated that Heze Huayi and Kangtai had no entries of subject merchandise originating from China, that were subject to antidumping duties during the POR.³ On May 19, 2021, Commerce issued a no shipment inquiry to CBP with respect to Heze Huayi and Kangtai.⁴ On May 24, 2021, CBP responded that it has no record of any subject entries for this inquiry.⁵

² See Heze Huayi's Letter, “Chlorinated Isocyanurates from the People's Republic of China: No Sales Certification,” dated September 8, 2020; see also Kangtai's Letter, “Chlorinated Isocyanurates from the People's Republic of China: No Sales Certification,” dated September 8, 2020.

³ See Memorandum, “U.S. Customs and Border Protection (CBP) Data for Heze Huayi Chemical Co., Ltd. and Juancheng Kangtai Chemical Co., Ltd.,” dated November 17, 2020.

⁴ CBP message 1139404, dated May 19, 2021.

⁵ See Memorandum, “Chlorinated Isocyanurates from the People's Republic of China; No Shipment Inquiry for Heze Huayi Chemical Co., Ltd. and Juancheng Kangtai Chemical Co., Ltd. during the period 06/01/2019 through 05/31/2020,” dated May 25, 2021.

Scope of the Order

The products covered by the order are chlorinated isos, which are derivatives of cyanuric acid, described as chlorinated s-triazine triones. For a full description of the scope of the order, see Preliminary Decision Memorandum.⁶

⁶ See Preliminary Results PDM at 2.

Methodology

Commerce is conducting this administrative review in accordance with section 751(a)(1)(B) of the Tariff Act of 1930, as amended (the Act), and 19 CFR 351.213.

Final Determination of No Shipments

In the Preliminary Results, we found that Heze Huayi and Kangtai had no entries of subject merchandise during the POR.⁷ No parties commented on, nor did we receive information that contradicts this preliminary determination. Therefore, for the final results, we continue to find that Heze Huayi and Kangtai had no reviewable entries during the POR. Consistent with our assessment practice in non-market economy administrative reviews, Commerce did not rescind this review for Heze Huayi and Kangtai but completed the review and will issue appropriate instructions to CBP based on these final results.⁸

⁷ See Preliminary Results, 86 FR 13291-13292.

⁸ See Non-Market Economy Antidumping Proceedings: Assessment of Antidumping Duties, 76 FR 65694, 65694-95 (October 24, 2011); see also the “Assessment Rates’ ” section, below.

China-Wide Entity

Pursuant to Commerce's policy, the China-wide entity will not be under review unless a party specifically requests, or Commerce self-initiates, a review of the entity.⁹ Because no party requested a review of the China-wide entity, we did not review the entity in this segment of the proceeding. Thus, the China-wide entity's rate (i.e., 285.63 percent) did not change.

⁹ See Antidumping Proceedings: Announcement of Change in Department Practice for Respondent Selection in Antidumping Duty Proceedings and Conditional Review of the Nonmarket Economy Entity in NME Antidumping Duty Proceedings, 78 FR 65963 (November 4, 2013).

Assessment Rates

Pursuant to Commerce's assessment practice, if Commerce determines that an exporter had no shipments of the subject merchandise, we intend to issue liquidation instructions for any suspended entries that entered under that exporter's case number (i.e., at that exporter's rate) and to liquidate at the China-wide entity rate.¹⁰

¹⁰ See Non-Market Economy Antidumping Proceedings: Assessment of Antidumping Duties, 76 FR 65694 (October 24, 2011). For an explanation on the derivation of the China-wide rate, see Notice of Final Determination of Sales at Less Than Fair Value: Chlorinated Isocyanurates from the People's Republic of China, 70 FR 24502, 24505 (May 10, 2005).

Pursuant to section 751(a)(2)(A) of the Act and 19 CFR 351.212(b), Commerce has determined, and CBP shall assess, antidumping duties on all appropriate entries of subject merchandise in accordance with the final results of this review. Consistent with its recent notice,¹¹ Commerce intends to issue appropriate assessment instructions directly to CBP no earlier than 35 days after the date of publication of the final results of this review in the Federal Register. If a timely summons is filed at the U.S. Court of International Trade, the assessment instructions will direct CBP not to liquidate relevant entries until the time for parties to file a request for a statutory injunction has expired (i.e., within 90 days of publication).

¹¹ See Notice of Discontinuation of Policy to Issue Liquidation Instructions After 15 Days in Applicable Antidumping and Countervailing Duty Administrative Proceedings, 86 FR 3995 (January 15, 2021).

Cash Deposit Requirements

The following cash deposit requirements will be effective upon publication of the final results of this administrative review for shipments of the subject merchandise from China entered, or withdrawn from warehouse, for consumption on or after the publication date, as provided by section 751(a)(2)(C) of the Act: (1) For Heze Huayi and Kangtai, the cash deposit rate will continue to be the existing producer/exporter-specific rate published for the most recent period; (2) for previously investigated or reviewed Chinese and non-Chinese exporters not listed above that have separate rates, the cash deposit rate will continue to be the existing producer/exporter-specific rate published for the most recent period; (3) for all Chinese exporters of subject merchandise that have not been found to be eligible for a separate rate, the cash deposit rate will be the China-wide rate of 285.63 percent; and (4) for all non-Chinese exporters of subject merchandise that have not received their own rate, the cash deposit rate will be the rate applicable to the Chinese exporter(s) that supplied that non-Chinese exporter. These deposit requirements, when imposed, shall remain in effect until further notice.

Notification to Importers Regarding the Reimbursement of Duties

This notice serves as a final reminder to importers of their responsibility under 19 CFR 351.402(f) to file a certificate regarding the reimbursement of antidumping duties prior to liquidation of the relevant entries during this POR. Failure to comply with this requirement could result in Commerce's presumption that reimbursement of antidumping duties has occurred and that subsequent assessment of doubled antidumping duties.

Notification Regarding Administrative Protective Orders

This notice also serves as the only reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review in accordance with sections 751(a)(1) and 777(i)(1) of the Act, and 19 CFR 351.213(h).

Dated: July 2, 2021.
Christian Marsh,
Acting Assistant Secretary for Enforcement and Compliance.

[FR Doc. 2021-14639 Filed 7-8-21; 8:45 am]

BILLING CODE 3510-DS-P